DEPARTMENT OF COMMERCE

International Trade Administration

[A-507-502]

Certain In-Shell Raw Pistachios from Iran: Rescission of Antidumping Duty Administrative Review

AGENCY: Import Administration, International Trade Administration, Department of Commerce

SUMMARY: In response to a request from Cal Pure Pistachios, Inc. (Cal Pure), a domestic interested party, the Department of Commerce (the Department) initiated an administrative review of the antidumping duty order on certain in-shell raw pistachios (raw pistachios) from Iran. See Initiation of Antidumping and Countervailing Duty Administrative Reviews and Request for Revocation in Part, 72 FR 48613 (August 24, 2007). This review covers the period July 1, 2006, through June 30, 2007. We are now rescinding this review due to Cal Pure's withdrawal of its request for review.

EFFECTIVE DATE: February 20, 2008.

FOR FURTHER INFORMATION CONTACT: Dena Crossland or John Drury, AD/CVD Operations, Office 7, Import Administration, International Trade Administration, U.S. Department of Commerce, 14th Street and Constitution Avenue, NW, Washington, DC 20230; telephone: (202) 482-3362 or (202) 482-0195, respectively.

SUPPLEMENTARY INFORMATION:

Background

On July 17, 1986, the Department published in the Federal Register a notice of the antidumping duty order on raw pistachios from Iran. See Antidumping Duty Order; Certain In-Shell Pistachios from Iran, 51 FR 25922 (July 17, 1986). On July 3, 2007, the Department published the opportunity to request an administrative review of the antidumping duty order on raw pistachios from Iran for the period July 1, 2006, through June 30, 2007. See Antidumping or Countervailing Duty Order, Finding, or Suspended Investigation; Opportunity to Request Administrative Review, 72 FR 36420 (July 3, 2007).

In accordance with 19 CFR 351.213(b)(1), on July 24, 2007, Cal Pure, a domestic interested party, requested an administrative review of the sales of subject merchandise from Iran for the following companies: Ahmadi's Agricultural Production, Processing and Trade Complex (Ahmadi); Maghsoudi Farms (Maghsoudi); Rafsanjan Pistachio Producers Cooperative (RPPC); Razi Domghan Agricultural & Animal Husbandry Co. (Razi); and Tehran Negah Nima Trading Company Inc. (Nima). On August 24, 2007, the Department published in the Federal Register a notice of initiation of this antidumping duty administrative review covering the period July 1, 2006, through June 30, 2007. See Initiation of Antidumping and Countervailing Duty Administrative Reviews and Request for Revocation in Part, 72 FR 48613 (August 24, 2007).

On September 10, 2007, the Department issued its antidumping duty questionnaire to Ahmadi, Maghsoudi, Nima, Razi, and RPPC. On September 26, 2007, a former representative on behalf of RPPC notified the Department that it was no longer representing RPPC and provided a new mailing address for RPPC. On September 28, 2007, the Department sent RPPC the original questionnaire to the new mailing address in Iran. See Memorandum to the File from Judy Lao, Analyst, through Angelica Mendoza, Program Manager, dated October 3, 2007. On October 4, 2007, the representative for Maghsoudi, Nima, and Razi informed the Department that it would not be filing responses to the Department's questionnaire as Maghsoudi, Nima, and Razi did not export or ship subject merchandise during the period of review (POR). See Memorandum to the File from Judy Lao, Analyst, through Angelica Mendoza, Program Manager, dated October 12, 2007. On October 5, 2007, the Department received notice that the RPPC did not receive the antidumping questionnaire, and re-sent the original questionnaire, and changed the due dates for RPPC's responses, after revising the shipping information. See Memorandum to the File from Judy Lao, Analyst, through Angelica Mendoza, Program Manager, dated October 9, 2007. On October 10, 2007, Ahmadi's representative informed the Department that it would not be filing responses to the Department's questionnaire as it did not export or ship subject merchandise during the POR. See Letter from Ahmadi's Agricultural Production, Processing and Trade Complex, dated October 10, 2007. On November 2, 2007, the Department sent a letter to RPPC because it had not responded to section A of the Department's antidumping questionnaire by the October 25, 2007, deadline. In the November, 2, 2007, letter, the Department instructed RPPC to notify the Department if it did not have any U.S. sales or shipments during the POR, or to submit its section A questionnaire response by November 9, 2007. The Department did not receive a reply from RPPC.

On November 30, 2007, the Department issued a “No Shipment Inquiry” to U.S. Customs and Border Protection (CBP) to confirm that there were no shipments or entries of raw pistachios from Iran produced and/or exported by Ahmadi, Maghsoudi, Nima, or Razi during the POR of the instant review. CBP only responds to the Department's inquiry when CBP finds that there have been shipments. CBP did not respond to the Department's inquiry, and no party submitted comments. See Memorandum to the File Regarding Ahmadi's Agricultural Production, Processing and Trade Complex; Maghsoudi Farms; Razi Domghan Agricultural and Animal Husbandry Co.; and Tehran Negah Nima Trading Company Inc. No Shipments of Certain In-Shell Raw Pistachios from Iran Pursuant to U.S. Customs and Border Protection Inquiry, from Dena Crossland, Analyst, through Angelica L. Mendoza, Program Manager, dated January 2, 2008.

On January 14, 2008, Cal Pure withdrew its request for review with respect to Ahmadi, Maghsoudi, Nima, Razi, and RPPC.

Rescission of the Administrative Review

Pursuant to 19 CFR 351.213(d)(1), the Secretary will rescind an administrative review under this section, in whole or in part, if a party that requested a review withdraws the request within 90 days of the date of publication of the notice of initiation of the requested review. The Secretary may extend this time limit if the Secretary decides that it is reasonable to do so. See 19 CFR 351.213(d)(1). Although Cal Pure's withdrew its request for review after 90 days of the date of publication of the notice of initiation, the Department determines it is reasonable under these circumstances to accept the request. Specifically, no party has objected to Cal Pures' late withdrawal and the Department has not expended significant resources to date in conducting this review.

Therefore, in response to Cal Pure's withdrawal of its request for administrative reviews pursuant to 19 CFR 351.213(d)(1), the Department hereby rescinds the administrative review of the antidumping duty order on raw pistachios from Iran for the period June 1, 2006, through July 31, 2007. The Department intends to issue assessment instructions to CBP 15 days after the date of publication of this rescission of administrative review.

The Department clarified its “automatic assessment” regulation on May 6, 2003 (68 FR 23954). See Antidumping and Countervailing Duty Proceedings: Assessment of Antidumping Duties, 68 FR 23954 (May 6, 2003). This clarification will apply to entries of subject merchandise during the POR produced by any of the companies for which we are rescinding this review, and for which each no-shipment respondent did not know its merchandise would be exported by another company to the United States. In such instances, we will instruct CBP to liquidate unreviewed entries at the all-others rate if there is no rate for the intermediate company(ies) involved in the transaction.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is published in accordance with sections 751(a)(1) and 777(i)(1) of the Tariff Act of 1930, as amended, and 19 CFR 351.213(d)(4).

Dated: February 11, 2008.
Stephen J. Claeys,
Deputy Assistant Secretary for Import Administration.

[FR Doc. E8-3145 Filed 2-19-08; 8:45 am]

BILLING CODE 3510-DR-S